DEPARTMENT OF ENERGY

Federal Energy Regulatory Commission

[Project No. 13369-000]

Community Hydro, LLC; Notice of Preliminary Permit Applications Accepted for Filing and Soliciting Comment, Motions To Intervene, and Competing Applications

April 7, 2009.

On February 6, 2009, Community Hydro, LLC, filed an application, pursuant to section 4(f) of the Federal Power Act, proposing to study the feasibility of the Knightville Dam Hydroelectric Project, to be located on the Middle Branch of the Westfield River, in Hampshire and Hampden Counties, Massachusetts.

The proposed Knightville Dam Hydroelectric Project would be located at: (1) the existing 1,200-foot-long U.S. Army Corps of Engineers Knightville Dam; (2) an existing Corps intake and control works; and (3) an existing 960-acre reservoir with 49,000 acre-feet of storage.

The project would consist of: (1) six new turbine generating units connected to the intake with a total installed capacity of 1.175 megawatts; (2) a new 45-kilovolt 3-phase transmission line and transformer connected to an existing above ground distribution system; and (3) appurtenant facilities. The Knightville Dam Project would have an estimated average annual generation of 3,980 megawatt-hours, which would be sold to local utilities.

Applicant Contact: Ms. Lori Barg, Community Hydro, LLC, 113 Bartlett Rd., Plainfield, VT 05667, phone (802) 454-1874.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13369) in the docket number field to access the document. For assistance, call toll-free 1-866-208-3372.

Kimberly D. Bose,
Secretary.

[FR Doc. E9-8456 Filed 4-13-09; 8:45 am]

BILLING CODE 6717-01-P